DEPARTMENT OF COMMERCE

Foreign-Trade Zones Board

[B-40-2013]

Notification of Proposed Production Activity, CNH America, LLC, Subzone 59B, (Agricultural Equipment Production); Grand Island, Nebraska

The Lincoln Foreign-Trade Inc., grantee of FTZ 59, submitted a notification of proposed production activity to the FTZ Board on behalf of CNH America, LLC, located in Grand Island, Nebraska. The notification conforming to the requirements of the regulations of the FTZ Board (15 CFR 400.22) was received on April 17, 2013.

The CNH facilities are located within Subzone 59B. The facility currently has authority to produce combines, haytools and related equipment using certain foreign-sourced components. The currently request involves additional combine subassemblies and other agricultural equipment. Pursuant to 15 CFR 400.14(b), FTZ activity would be limited to the specific foreign-status materials and components and specific finished products listed in the submitted notification (as described below) and subsequently authorized by the FTZ Board.

Production under FTZ procedures could exempt CNH from customs duty payments on the foreign status components used in export production. On its domestic sales, CNH would be able to choose the duty rates during customs entry procedures that apply to combine and other agricultural equipment including: cab platforms; conveyors and mountings; cooler screens and mountings; grain separators; grain pan modules; grain elevator head strip-off plates; rotors, rotor cages, and variators; tail housings; vertical auger tubes; chopper drive gearbox accessories; cotton picker frames and cabs; and, non-motorized bale wagons (duty rates range from free to 2.8%) for the foreign status inputs noted below. Customs duties also could possibly be deferred or reduced on foreign status production equipment.

The components and materials sourced from abroad include: sealant; sealant paste; oil drain assemblies; rubber pads; flaps and seals; rubber adhesive strips; rubber hoses and elbows; transmission belts; floor mats; gaskets; instruction manuals; brake hose ferrules; lawnmower blades and parts; security keys; fuel pumps; fans and fan assemblies; heating ventilation air conditioners and parts; heater coils; hydraulic fluid filters; engine intake air filters; sprayer nozzles; conveyor belts; feeder clutch cylinders; crop spreaders; hose and air guns; valves and valve assemblies; bearings and bearing housings; converters; safety clutches; battery systems; ignition alternator; speakers; GPS navigational systems; AM/FM radios; antennas; headlights; harness wires and cable batteries; bale wagon chassis; flail blades for straw chopper; drive axles; radiators; temperature sensors; pressure gauges; and, seats (duty rates range from free to 5%).

Public comment is invited from interested parties. Submissions shall be addressed to the Board's Executive Secretary at the address below. The closing period for their receipt is June 24, 2013.

A copy of the notification will be available for public inspection at the Office of the Executive Secretary; Foreign-Trade Zones Board; Room 21013; U.S. Department of Commerce, 1401 Constitution Avenue NW., Washington, DC 20230-0002; and in the “Reading Room” section of the Board's Web site; which is accessible via www.trade.gov/ftz.

For further information; contact Diane Finver at Diane.Finver@trade.gov or (202) 482-1367.

Dated: May 3, 2013.
Andrew McGilvray,
Executive Secretary.

[FR Doc. 2013-11186 Filed 5-10-13; 8:45 am]

BILLING CODE 3510-DS-P